DEPARTMENT OF LABOR

Office of the Secretary

Privacy Act of 1974; Publication of Five New Systems of Records; Amendments to Five Existing Systems of Records

AGENCY: Office of the Secretary, Labor.

ACTION: Notice of five new systems of records; amendments to five existing systems of records; and amendments to one universal routine use.

SUMMARY: The Privacy Act of 1974 requires that each agency publish notice of all of the systems of records that it maintains. This document proposes to add five new systems of records to the current systems of records of the Department of Labor (Department or DOL). With the addition of these five systems of records, the Department will be maintaining 153 systems of records. The Department also proposes to amend five existing systems of records and one universal routine use. The five proposed revised systems of records include changes to their routine uses and to the various system categories, some of which are updates to names and locations and stylistic changes. Major changes are summarized in the introductory portion of the Supplementary Information section.

DATES: Persons wishing to comment on these five new systems of records, the proposed amendments to five existing systems of records, and the amendments to one universal routine use may do so on or before February 21, 2012.

DATES: Effective Date: Unless there is a further notice in the Federal Register, these five new systems of records, the five revised systems of records with their amendments, and the one universal routine use with amendments, will become effective on March 6, 2012.

ADDRESSES: Written comments may be mailed or delivered to William W. Thompson, II, Associate Solicitor, Division of Management & Administrative Legal Services, 200 Constitution Avenue NW., Room N-2428, Washington, DC 20210 or by email to plick.joseph@dol.gov.

FOR FURTHER INFORMATION CONTACT: Joseph J. Plick, Counsel for FOIA/FACA/Privacy Act, Office of the Solicitor, Department of Labor, 200 Constitution Avenue NW., Room N-2428, Washington, DC 20210, telephone (202) 693-5527.

SUPPLEMENTARY INFORMATION: Pursuant to section three of the Privacy Act of 1974 (5 U.S.C. 552a(e)(4)), hereinafter referred to as the Act, the Department hereby publishes notice of five new systems of records currently maintained pursuant to the Act. On April 8, 2002, in Volume 67 at Page 16816 of the Federal Register, the Department published a notice of 147 systems of records that are maintained under the Act. On February 6, 2003, at 68 FR 6185, a new system of records was published on behalf of the Office of the 21st Century Workforce, entitled DOL/21st CENTURY-1, Correspondents With the Office of the 21st Century Workforce. On September 15, 2003, at volume 68 FR 54012, the Department amended two existing systems of records.

This current document presents five new systems of records, bringing the Department's total number of systems of records to 153. This notice first provides a summary of the five new and five amended systems of records, as well as the one amended universal routine use, and then provides the universal routine uses applicable to all systems of records, including the amended universal routine use, followed by the text of each of the new and amended systems of records.

1. The first new system is entitled, DOL/CENTRAL-1, Correspondents With the Department of Labor. This system is identified by a new naming convention, “CENTRAL,” that DOL has established for systems that affect the entire Department as opposed to a specific agency within the Department. This system contains comments by or requests from individuals and information necessary to satisfy requests for information, brochures, requests to subscribe to message boards, to use Web site based programs, and requests for compliance assistance. It includes information received from callers to the Department's call centers. Depending on the nature of the request by the correspondent or caller, the file may include (but is not limited to) the following information regarding individuals who have contacted the Department: Name, title, mailing address, telephone and fax number, email address, area of interest(s) and other information necessary to satisfy a request. This system will cover information maintained by all components of the Department.

2. The second new system is entitled DOL/CENTRAL-2, Registrants for Department of Labor Events and Activities. This system is identified by a new naming convention, “CENTRAL,” that DOL has established for systems that affect the entire Department as opposed to a specific agency within the Department. This system contains written, telephonic, and online requests to register for Department conferences, events, activities, seminars, special interest Web sites, and programs, including requests for special accommodations and meal preferences. The file may include (but is not limited to) the following information regarding individuals who have contacted the Department: name, title, mailing address, telephone and fax number, email address, and requests for special accommodations. This system will cover information maintained by all components of the Department.

3. The third new system is entitled DOL/CENTRAL-3, Internal Investigations of Harassing Conduct. This system is identified by a new naming convention, “CENTRAL,” that DOL has established for systems that affect the entire Department as opposed to a specific agency within the Department. This system of records is maintained by the Office of the Secretary, and it is for the purpose of conducting internal investigations into allegations of harassment brought against Department employees, former Department employees, Department interns, or other such agents of the Department, and for taking appropriate action in accordance with the Department's policy to prevent harassing conduct in the workplace. This is an exempt system of records; a separate notice will be published regarding the exempt status of this system of records.

4. The fourth new system is entitled DOL/ESA-52, Wage-Hour Financial Accounting System (WFAS). This system of records, maintained by and for the Wage-Hour Division, contains records of persons or entities who receive or who owe a payment for back wages as a result of the enforcement of the Fair Labor Standards Act. These persons and entities are listed in the Back Wage Disbursement and Collection System. A second category of records includes employers who owe a debt to the Government for violating one or more of the laws enforced by the Wage-Hour Division. These employers are listed in the Civil Money Penalty System.

Note: The Employment Standards Administration (ESA) was dissolved on November 8, 2009. ESA's four sub-agencies: the Office of Federal Contract Compliance Programs, the Office of Labor Management Standards, the Wage and Hour Division, and the Office of Workers' Compensation Programs are now independent agencies that report directly to the Secretary of Labor. For the present time DOL is retaining the nomenclature identifying system of records notices of the four former ESA sub-agencies with the heading DOL/ESA. Looking forward, DOL intends to do a comprehensive review and republication of all DOL systems of records. As part of that republication, DOL will retire the use of “ESA” in the systems of records titles.

5. The fifth new system is entitled DOL/ETA-28, Senior Community Service Employment Program Information Files. This system is a new management information system designed to facilitate the uniform compilation and analysis of programmatic data necessary for reporting, monitoring, and evaluation purposes.

6. The Department proposes to amend an existing system of records, DOL/OSHA-1, Discrimination Complaint File, by renaming the system Retaliation Complaint File; by amending the “Authority” category; and by amending the “Routine uses” category. These amendments are needed so that nine additional whistleblower protection statutes can be added to this existing system of records. These are the Pipeline Safety Improvement Act of 2002 (PSIA); the Corporate and Criminal Fraud Accountability Act of 2002, Title VIII of the Sarbanes-Oxley Act (SOX); the Federal Railroad Safety Act (FRSA), as amended by the Implementing Recommendations of the 9/11 Commission Act of 2007; the National Transit Systems Security Act of 2007 (NTSSA); the Consumer Product Safety Improvement Act of 2008 (CPSIA); The Affordable Care Act; the Consumer Financial Protection Act of 2010 (CFPA), Section 1057 of the Dodd-Frank Wall Street Reform and Consumer Protection Act of 2010; the Seaman's Protection Act (SPA); and the FDA Food Safety Modernization Act (FSMA). Each of these statutes includes whistleblower protections for employees who provide evidence of violations of law by their employers. In addition, a number of the routine uses have been consolidated and a routine use has been added so that appropriate investigatory records can be disclosed to law enforcement entities. The additions to the category for “Routine uses” cannot be made administratively since the Privacy Act at 5 U.S.C. 552a(e)(4)(11) requires that comment be allowed for any new routine use. Amendments to several other categories are proposed in order to describe the system more accurately.

7. The Department proposes to amend DOL/OCFO-1, Attendance, Leave, and Payroll File, by revising the categories for “System location,” “Categories of individuals covered by the system,” “Categories of records in the system,” “Routine uses,” “Retention,” and “System manager” as well as minor changes to the other categories to read as set forth below. The new routine use will cover disclosure of records to the payroll provider for the Department, which is currently the U.S. Department of Agriculture's National Finance Center, in order to effect all financial transactions on behalf of the Department related to employee pay.

8. The Department proposes to amend DOL/GOVT-1, Office of Workers' Compensation Programs, Federal Employees' Compensation Act File, by adding an additional routine use. The new routine use will permit the Department to disclose information to the National Institutes for Occupational Safety and Health for the purpose of performing statistical analyses of injury and illness patterns. These statistical analyses will assist the Department's Office of Workers' Compensation Programs and the Occupational Safety and Health Administration in their respective missions.

9. The Department proposes to amend DOL/ETA-7, Employer Application and Attestation File for Permanent and Temporary Alien Workers, by revising the “Categories of individuals covered by the system” to more accurately describe that the only employers who are covered by the system of records are household employers of permanent or temporary alien workers. In addition, minor changes are proposed for amendment, in the categories for “System location,” “Storage,” “Retrievability,” and “Record source.”

10. The Department proposes to amend DOL/OSEC-1, Supervisor's/Team Leader's Records of Employees, by adding an additional routine use. This will permit information to be provided to professional licensing organizations such as those for attorneys, accountants, and physicians. In addition, minor changes are proposed to the categories for “System location,” “Categories of records in the system,” “Record source,” “Authority,” and “Purpose.”

11. The Department proposes to amend universal routine use 12 by clarifying the language contained in section three in order to more accurately describe the applicability of the routine use.

The public, the Office of Management and Budget (OMB) and the Congress are invited to submit written comments on the five new systems, on the proposed amendments to five existing systems, and on the proposed amendments to one universal routine use. A report on the five new systems, the proposed amendments to five existing systems, and on the proposed amendments to one universal routine use has been provided to OMB and the Congress as required by OMB Circular A-130, Revised, and 5 U.S.C. 552a(r).

In its April 8, 2002, publication, the Department gave notice of 12 routine uses that apply to all of its systems of records, except for DOL/OASAM-5 and DOL/OASAM-7. These 12 routine uses were presented in the General Prefatory Statement for that document, and it appeared at Page 16825 of Volume 67 of the Federal Register. At this time, as a convenience to the reader of this document, we are republishing this General Prefatory Statement updated to include the amendments to universal routine use 12. This republication includes the statement, also contained in the 2002 publication, that pursuant to the Flexiplace Program, the system location for all systems of records may be temporarily located at alternate worksites, including employees' homes or at geographically convenient satellite offices for part of the workweek.

Signed at Washington, DC this 22nd day of September, 2011.
Hilda L. Solis,
Secretary of Labor.

General Prefatory Statement

A. Universal Routine Uses of the Records

The following routine uses of the records apply to and are incorporated by reference into each system of records published below unless the text of a particular notice of a system of records indicates otherwise. These routine uses do not apply to DOL/OASAM-5, Rehabilitation and Counseling File, or to DOL/OASAM-7, Employee Medical Records.

1. To disclose the records to the Department of Justice when: (a) The agency or any component thereof; or (b) any employee of the agency in his or her official capacity; or (c) the United States Government, is a party to litigation or has an interest in such litigation, and by careful review, the agency determines that the records are both relevant and necessary to the litigation, and the use of such records by the Department of Justice is for a purpose that is compatible with the purpose for which the agency collected the records.

2. To disclose the records in a proceeding before a court or adjudicative body, when: (a) The agency or any component thereof; or (b) any employee of the agency in his or her official capacity; or (c) any employee of the agency in his or her individual capacity; or (d) the United States Government, is a party to litigation or has an interest in such litigation, and by careful review, the agency determines that the records are both relevant and necessary to the litigation, and that the use of such records is a purpose that is compatible with the purpose for which the agency collected the records.

3. When a record on its face, or in conjunction with other information, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the agency determines by careful review that the records or information are both relevant and necessary to any enforcement, regulatory, investigative or prosecutive responsibility of the receiving entity, and that the use of such records or information is for a purpose that is compatible with the purposes for which the agency collected the records.

4. To a Member of Congress or to a Congressional staff member in response to an inquiry of the Congressional office made at the written request of the constituent about whom the record is maintained.

5. To the National Archives and Records Administration or to the General Services Administration for records management inspections conducted under 44 U.S.C. 2904 and 2906.

6. To disclose to contractors, employees of contractors, consultants, grantees, and volunteers who have been engaged to assist the agency in the performance of or working on a contract, service, grant, cooperative agreement or other activity or service for the Federal Government.

Note: Recipients shall be required to comply with the requirements of the Privacy Act of 1974, as amended, 5 U.S.C. 552a; see also 5 U.S.C. 552a(m).

7. To the parent locator service of the Department of Health and Human Services or to other authorized persons defined by Public Law 93-647 (42 U.S.C. 653(c)) the name and current address of an individual for the purpose of locating a parent who is not paying required child support.

8. To any source from which information is requested in the course of a law enforcement or grievance investigation, or in the course of an investigation concerning retention of an employee or other personnel action, the retention of a security clearance, the letting of a contract, the retention of a grant, or the retention of any other benefit, to the extent necessary to identify the individual, inform the source of the purpose(s) of the request, and identify the type of information requested.

9. To a Federal, State, local, foreign, tribal, or other public authority of the fact that this system of records contains information relevant to the hiring or retention of an employee, the granting or retention of a security clearance, the letting of a contract, a suspension or debarment determination or the issuance or retention of a license, grant, or other benefit.

10. To the Office of Management and Budget during the coordination and clearance process in connection with legislative matters.

11. To the Department of the Treasury, and a debt collection agency with which the United States has contracted for collection services to recover debts owed to the United States.

12. To the news media and the public when (1) the matter under investigation has become public knowledge, (2) the Solicitor of Labor determines that disclosure is necessary to preserve confidence in the integrity of the Department or is necessary to demonstrate the accountability of the Department's officers, employees, or individuals covered by this system, or (3) the Solicitor of Labor determines that there exists a legitimate public interest in the disclosure of the information, provided the Solicitor of Labor determines in any of these situations that the public interest in disclosure of specific information in the context of a particular case outweighs the resulting invasion of personal privacy.

B. System Location—Flexiplace Programs

The following paragraph applies to and is incorporated by reference into all of the Department's systems of records under the Privacy Act, within the category entitled, SYSTEM LOCATION:

Pursuant to the Department of Labor's Flexiplace Programs, copies of records may be temporarily located at alternative worksites, including employees' homes or at geographically convenient satellite offices for part of the workweek. All appropriate safeguards will be taken at these sites.

I. Publication of a New System of Records

DOL/CENTRAL-1

System Name:

Correspondents with the Department of Labor.

Security classification:

None.

System location:

At the offices of each component agency within the U.S. Department of Labor, including national, regional, and contractor offices, and at the offices of call centers serving the Department including the Department's national call center currently located at the contractor's site in Chantilly, Virginia.

Categories of individuals covered by the system:

Individual correspondents with the various components of the Department who contact, by telephone, U.S. Mail or other mail/delivery service, online, email, or phone bank, components within the Department for various reasons such as, but not limited to, requests for information, brochures, requests for compliance assistance, requests to subscribe to message boards, and/or to use Web site based programs. It includes callers to the Department's call center and contractors providing mail and public information services to the Department.

Categories of records in the system:

This system contains comments by, or requests from, individuals and information necessary to satisfy requests for information or brochures, requests for compliance assistance, requests to subscribe to message boards, or email management systems, and/or to use Web site based programs. It includes information received from callers to the Department's call centers. Depending on the nature of the request, the file may include (but is not limited to) the following information regarding individuals who have contacted the Department: Name, title, mailing address, telephone and fax number, email address, area of interest, and other information necessary to respond to a request.

Authority for maintenance of the system:

5 U.S.C. 301.

Purpose(s):

To enhance information exchange by improving the availability of Departmental component information on automated systems; to facilitate sending information on compliance assistance to correspondents; to use Web site based programs; to provide usage statistics associated with the Department's public access Internet site; and to provide a framework from which to select an unbiased sample of individuals for surveys. Among other things, maintaining the names, addresses, etc. of individuals requesting data/publications will streamline the process for handling subsequent inquiries and requests by eliminating duplicative gathering of mailing information, data, and material on individuals who correspond with the Department.

Routine uses of records maintained in the system, including categories of users and the purposes of such uses:

None, except for those universal routine uses listed in the General Prefatory Statement to this document.

Disclosure to consumer reporting agencies:

None.

Policies and practices for storing, retrieving, accessing, retaining, and disposing of records in the system:

Storage:

Files are stored electronically and/or on paper.

Retrievability:

By name, telephone or fax number (including the telephone number from which the individual dials), email address or other identifying information in the system.

Safeguards:

Access by authorized personnel only. Computer security safeguards are used for electronically stored data and locked locations for paper files.

Retention and disposal:

Current correspondent information files are updated as necessary and are destroyed after three months, or in the case of Web site based programs, message boards, or email management systems, when no longer needed.

System manager(s) and address:

The relevant agency head for the applicable component agency within the U.S. Department of Labor, 200 Constitution Avenue NW., Washington, DC 20210.

Notification procedure:

Individuals wishing to inquire whether this system of records contains information about them should contact the system manager. Individuals must furnish in writing the following information for their records to be located and identified:

a. Full name and mailing address.

b. Signature.

Record access procedures:

As in notification procedure.

Contesting record procedures:

As in notification procedure.

Record source categories:

Correspondents with the relevant component agency within the Department.

Systems exempted from certain provisions of the Act:

None.

II. Publication of a Second New System of Records

DOL/CENTRAL-2

System name:

Registrants for Department of Labor Events and Activities.

Security classification:

None.

System location:

At the offices of each component agency within the Department of Labor, including national, regional and contractor offices.

Categories of individuals covered by the system:

Individual correspondents with the various components of the Department who contact, by telephone, fax, U.S. Mail or other mail/delivery services, on-line, or email, components within the Department to register for conferences, events, activities, seminars, special interest Web sites, and programs.

Categories of records in the system:

This system contains information necessary to satisfy requests by individuals to register for Department conferences, events, activities, seminars, programs and special interest Web sites, including their requests for special accommodations and items such as meal preferences. Depending on the nature of the request, the file may include (but is not limited to) the following information on the individuals who have contacted the Department: name, title, mailing address, telephone and fax number, and email address.

Authority for maintenance of the system:

5 U.S.C. 301.

Purpose(s):

To permit persons to register, by mail, telephone, fax, email and on-line, for Departmental conferences, events, activities, seminars, special interest Web sites, and programs; to enhance information exchange by improving the availability of Departmental component information on automated systems; to provide a framework from which to select an unbiased sample of individuals for surveys; and to maintain the names, addresses, etc. of individuals who register for conferences and seminars.

Routine uses of records maintained in the system, including categories of users and the purposes of such uses:

In addition to the universal routine uses listed in the General Prefatory Statement to this document, a record from this system of records may be disclosed to private entities and/or State or other Federal agencies that co-sponsor or have a statutory interest in the subject of a particular conference or Web site. A record from this system may be disclosed to hotels, conference centers, caterers, interpreters and other entities that provide services for the purpose of holding the conferences and seminars, including services to persons with disabilities.

The names and business addresses of attendees may be disclosed to conference attendees and/or the public, where appropriate. Records also may be disclosed where required by law.

Disclosure to consumer reporting agencies:

None.

Policies and practices for storing, retrieving, accessing, retaining, and disposing of records in the system:

Storage:

Files are stored electronically and/or on paper.

Retrievability:

By name, telephone or fax number (including the telephone number from which the individual dials), email address or other identifying information in the system.

Safeguards:

Access by authorized personnel only. Computer security safeguards are used for electronically stored data and locked locations for paper files.

Retention and disposal:

Current correspondent information files are updated as necessary and are destroyed when no longer needed.

System manager(s) and address:

The relevant agency head for the applicable component agency within the U.S. Department of Labor, 200 Constitution Avenue NW., Washington, DC 20210.

Notification procedure:

Individuals wishing to inquire whether this system of records contains information about them should contact the systems manager. Individuals must furnish in writing the following information for their records to be located and identified:

a. Full name and address.

b. Signature.

Record access procedures:

As in notification procedure.

Contesting record procedures:

As in notification procedure.

Record source categories:

Correspondents with the relevant component agency within the Department.

Systems exempted from certain provisions of the Act:

None.

III. Publication of a Third New System of Records

DOL/CENTRAL-3

System name:

Internal Investigations of Harassing Conduct.

Categories of individuals covered by the system:

Current or former Department employees, Department interns, or other such agents of the Department, nationwide, who have filed a complaint or report of harassment, or have been accused of harassing conduct under the Department's Policy to Prevent Harassing Conduct in the Workplace (the Policy).

System location:

Records on covered individuals are located at the Department of Labor, Office of the Assistant Secretary for Administration and Management and with respective agency Equal Employment Opportunity (EEO) Managers in the national office.

Categories of records in the system:

The system contains all documents related to a complaint or report of harassment, which may include the complaint, statements of witnesses, reports of interviews, investigators and agency EEO manager's findings and recommendations, final decisions and corrective action taken, and related correspondence and exhibits.

Note: Records compiled by the Office of Inspector General in its investigations of harassing conduct are covered by its own system of records, entitled DOL/OIG-1, and are not part of this system of records.

Authority for maintenance of the system:

5 U.S.C. 301; 44 U.S.C. 3101.

Purpose(s):

These records are maintained for the purpose of conducting internal investigations into allegations of harassment brought against Department employees and for taking appropriate action in accordance with the Department's Policy.

Routine uses of records maintained in the system, including categories of users and the purposes of such uses:

In addition to those universal routine uses contained in the General Prefatory Statement to this document, disclosure of information from this system of records regarding the status of any investigation that may have been conducted may be made to the party who was subject to the harassment and to the alleged harasser when the purpose of the disclosure is both relevant and necessary and is compatible with the purpose for which the information was collected.

Note: Records compiled under the Policy which subsequently become part of the investigation record in an EEO complaint may be disclosed to the complainant if the Civil Rights Center (CRC) determines that the records are relevant and necessary with respect to adjudicating the EEO complaint, when such disclosure is compatible with the purpose for which the information was collected.

Policies and practices for storing, retrieving, accessing, retaining, and disposing of records in the system:

Storage:

Files are stored electronically and/or on paper.

Retrievability:

These records are indexed by the name of the alleged victim(s) and/or the name of the individual accused of harassing conduct.

Safeguards:

Access by authorized personnel only. Computer security safeguards are used for electronically stored data and locked locations for paper files.

Retention and disposal:

These records are maintained for four years from the date that the investigation is closed.

System manager(s) and address:

Respective agencies' EEO managers, U.S. Department of Labor, 200 Constitution Ave. NW., Suite N-4123, Washington, DC 20210.

Notification procedure:

An individual wishing to inquire whether this system of records contains non-exempt information about him/her should contact the systems manager. Individuals must furnish in writing the following information for their records to be located and identified:

a. Full name and address.

b. Signature.

Record access procedures:

As in notification procedure.

Contesting record procedures:

A petition for amendment shall be addressed to the System Manager and must meet the requirements of Department's Privacy Act regulations at 29 CFR 71.1 and 71.9.

Record source categories:

Individual complainants; agency EEO Managers; supervisors; management officials; employee relations staff; witness statements; Solicitor's Office staff; CRC staff, and summary reports on harassing conduct complaints.

Systems exempted from certain provisions of the Act:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

IV. Publication of a Fourth New System of Records

DOL/ESA-52

System Name:

Wage-Hour Financial Accounting System (WFAS).

Security classification:

None.

System location:

Wage-Hour Division (WHD) national office, and regional/sub-regional offices.

Categories of individuals covered by the system:

All persons who receive payment from, or who owe a payment to, agency/regional offices through one of two financial systems (Back Wage Disbursement and Collection System or the Civil Money Penalty System). These persons are as follows:

a. Persons receiving payments include, but are not limited to: Employees; and third parties acting on behalf of employees.

b. Persons owing monies include, but are not limited to: Employers who owe a debt due to the Government as a result of violations of one or more of the laws enforced by the WHD; persons who have been overpaid; and persons who owe the Department a refund.

Categories of records in the system:

Name, identification number (Taxpayer Identification Number or other identifying number), Social Security Number, address, purpose of payment, accounting classification, amount to be paid, withholdings, and amount paid.

Authority:

5 U.S.C. 301.

Purpose(s):

These records are an integral part of the WHD accounting systems at principal operating components, agency regional and sub-regional offices. The records are used to keep track of all WHD payments due to individuals, as well as those due from employers to the Federal Government. When an accounts receivable is established, these records regarding employers are used as part of collection actions. The employee records are used to attempt to locate an employee for purposes of distributing back wages to that employee on behalf of the employer. In event of an overpayment to an individual, the record is used to establish a receivable record for recovery of the amount claimed. The records are also used internally to develop reports to the Internal Revenue Service (IRS) and applicable State and local taxing officials of taxable income. This is a component-wide notice of payment and collection activities.

Routine uses of records maintained in the system, including categories of users and the purposes of such uses:

In addition to those universal routine uses contained in the General Prefatory Statement to this document, the following disclosures are permitted:

a. Transmittal of the records to the United States Treasury to effect issuance of payments to payees.

b. Pursuant to § 13 of the Debt Collection Act of 1982, the name, address(es), telephone number(s), Social Security Number, and nature, amount and history of debts of an individual may be disclosed to private debt collection agencies for the purpose of collecting or compromising a debt existing in this system.

c. Information may be forwarded to the Department of Justice as prescribed in the Joint Federal Claims Collection Standards (31 CFR Parts 900 through 904) for the purpose of determining the feasibility of enforced collection, and by referring the cases to the Department of Justice for litigation.

d. Pursuant to §§ 5 and 10 of the Debt Collection Act of 1982, as amended by the Debt Collection Improvement Act of 1996, information relating to the implementation of the Debt Collection Act of 1982 may be disclosed to other Federal agencies to effect salary or administrative offsets.

e. Information contained in the system of records may be disclosed to the IRS to obtain taxpayer mailing addresses for the purpose of locating such taxpayer to collect, compromise, or write off a Federal claim against the taxpayer.

f. Information may be disclosed to the IRS concerning the discharge of an indebtedness owed by an individual.

g. Information may be disclosed to the Social Security Administration informing them of taxable income.

h. Information may be disclosed to State and local taxing officials informing them of taxable income.

Policies and practices for storing, retrieving, accessing, retaining, and disposing of records in the system:

Storage:

Files are stored electronically and/or on paper.

Retrievability:

This varies according to the particular operating accounting system within the operating division, agency and regional office. Usually hard copy documents are retrieved by case identification number. Computer records are retrieved by employee last name, as well as case identification number, employer name, Social Security Number, or on any field in the record.

Safeguards:

Access by authorized personnel only. Computer security safeguards are used for electronically stored data and locked locations for paper files.

Retention and Disposal:

Records pertaining to the collection and payment of back wages are maintained in hard copy form in the regional and sub-regional offices for one year after closing. They are then transferred to the Federal Records Center for storage; they are retained there for six years and three months and then are destroyed. Hard copy records of Civil Money Penalty payments are transmitted back to the district offices for inclusion in the regular investigation file. Automated records are closed but available on the system once the case balance has reached $0. These records will eventually be destroyed after six years and three months, but prior to destruction, they are maintained in readable form to facilitate tax inquiries from employees and employers.

System manager(s) and address:

Administrator, Wage-Hour Division, Room S-3502, Frances Perkins Building, 200 Constitution Avenue, NW., Washington, DC 20210.

Notification procedure:

Inquiries should be mailed or presented to the system manager noted at the address listed above.

Record access procedures:

A request for access shall be addressed to the system manager at the address listed above.

Contesting record procedures:

A petition for amendment shall be addressed to the System Manager.

Record source categories:

Individuals, employees, employers, other Federal agencies, Government contractors.

Systems exempted from certain provisions of the Act:

None.

V. Publication of a Fifth New System of Records

DOL/ETA-28

System name:

Senior Community Service Employment Program Information Files.

Security classification:

None.

System location:

U.S. Department of Labor, Employment and Training Administration, Frances Perkins Building, 200 Constitution Avenue NW., Washington, DC 20210.

Categories of individuals covered by the system:

Participants in the Senior Community Service Employment Program (SCSEP) funded under the Older Americans Act Amendments of 2006 (OAA Amendments), Public Law 109-365.

Categories of records in the system:

Records in the system include personal characteristics of each SCSEP participant; the description of training, community service assignments, and unsubsidized employment placements the participants received; wages and supportive services received; and program outcome and participant follow-up information obtained after completion of the program.

Authority for maintenance of the system:

OAA Amendments, Public Law 109-365, § 513(a).

Purposes:

To maintain a management information system designed to facilitate the uniform compilation and analysis of program data necessary for reporting, monitoring and evaluation purposes. The system will:

a. Generate statistical reports that will present detailed information on the aggregate characteristics of program participants, program activities, and outcomes. These data will be reported at the national and State grantee levels and will allow the Department to respond to a variety of requests for specific information regarding the scope of services; the types of community service activities; and the nature and duration of employment that SCSEP grantees are providing to their participants. Further, these reports will present detailed survey information on the aggregate customer satisfaction of program participants, participating host agencies, and employers of participants.

b. Provide information that will enable the Department to monitor the program at the national or grantee levels; to report to Congress on program outcomes; and to provide feedback to State and National grantees on their progress in implementing their grants.

c. Provide a suitable national database to enable the Department to provide technical guidance to SCSEP grantees to enable them to meet their negotiated performance measures.

Routine uses of records maintained in the system, including categories of users and the purposes of such uses:

In addition to those universal routine uses contained in the General Prefatory Statement to this document, disclosure of personnel, procurement, or benefit-related information to contractors and agencies to enable them to provide administrative functions for the program, including the maintenance of participant pay records.

Disclosure of information to researchers of those records which are relevant and necessary to evaluate the effectiveness of the overall program and its various training components in serving different subgroups of the eligible population.

Disclosure of information to Federal, State, and local agencies and community-based organizations to facilitate statistical research, audit, and evaluation activities necessary to insure the success, integrity, and improvement of the SCSEP and other employment and training programs.

Disclosure of information to placement and welfare agencies, prospective employers, school, or training institutions to assist in participant employment.

Disclosure of statistical information to the news media, public interest groups, or members of the general public for the purpose of promoting the merits of the SCSEP.

Disclosure to consumer reporting agencies:

Not applicable.

Policies and practices for storing, retrieving, accessing, retaining, and disposing of records in the system:

Storage:

Files are stored electronically and/or on paper.

Retrievability:

Records may be retrieved by any data element.

Safeguards:

Access by authorized personnel only. Computer security safeguards are used for electronically stored data and locked locations for paper files. Public access files and files used for analysis outside the database manager's computer system will be purged of participant identifiers. Published tables will be sufficiently aggregated to prevent identification of any individual.

Retention and disposal:

Data files will be retained for two years after the files are no longer active. After two years the files will be transferred to the Federal Records Center, where they are destroyed after three years.

System manager(s) and address:

Chief, Division of Adult Services, Employment and Training Administration, 200 Constitution Avenue NW., Washington, DC 20210.

Notification procedure:

Address inquiries to the Chief, Division of Adult Services, Employment and Training Administration, 200 Constitution Avenue NW., Washington, DC 20210.

Record access procedures:

Individuals wishing access to information contained in this system should contact the office indicated in the notification procedure above. Individuals requesting access to files must comply with the Department's Privacy Act regulations on verification of identity and access to records.

Record contesting procedures:

Individuals wishing to request amendments to records should contact the office indicated in the notification procedures section.

Record source categories:

Individual participants; SCSEP grantees.

Systems exempt from certain provisions of the Act:

None.

VI. Publication of a Proposed Amended System of Records

DOL/OSHA-1, Discrimination Complaint File, is proposed to be amended by renaming the title to reflect that the file contains complaints of retaliation, rather than discrimination; by revising the category for “Authority for maintenance of the system”; and by proposing to amend the category for “Routine uses.” In addition, several other categories are proposed to be refined. For the convenience of the reader, the system is republished in full to read as follows:

DOL/OSHA-1

System Name:

Retaliation Complaint File.

Security Classification:

None.

System Location:

At offices of the Occupational Safety and Health Administration (OSHA) including National, regional, and area offices.

Categories of individuals covered by the system:

Individuals who have filed complaints alleging retaliation against them by their employers, or by others, for engaging in activities protected under the various statutes set forth below, popularly referenced as whistleblower protection statutes. Complainants may file such claims with OSHA pursuant to 21 statutes: the Occupational Safety and Health Act (29 U.S.C. 660(c)); the Surface Transportation Assistance Act (49 U.S.C. 31105); the Asbestos Hazard Emergency Response Act (15 U.S.C. 2651); the International Safe Container Act (46 U.S.C. 80507); the Safe Drinking Water Act (42 U.S.C. 300j—9(i)); the Federal Water Pollution Control Act (33 U.S.C. 1367); the Toxic Substances Control Act (15 U.S.C. 2622); the Wendell H. Ford Aviation Investment and Reform Act for the 21st Century (49 U.S.C. 42121); the Solid Waste Disposal Act (42 U.S.C. 6971); the Clean Air Act (42 U.S.C. 7622); the Comprehensive Environmental Response, Compensation and Liability Act of 1980 (42 U.S.C. 9610); the Energy Reorganization Act of 1978 (42 U.S.C. 5851); the Pipeline Safety Improvement Act of 2002 (49 U.S.C. 60129); the Corporate and Criminal Fraud Accountability Act of 2002, Title VIII of the Sarbanes-Oxley Act of 2002 (18 U.S.C. 1514A); the Federal Railroad Safety Act (49 U.S.C. 20109); the National Transit Systems Security Act (6 U.S.C. 1142); the Consumer Product Safety Improvement Act (15 U.S.C. 2087); the Affordable Care Act (20 U.S.C. 208C); the Consumer Financial Protection Act of 2010 (12 U.S.C.A. § 5567); the Seaman's Protection Act (46 U.S.C. 2114); and the FDA Food Safety Modernization Act (21 U.S.C. 399d).

Categories of records in the system:

Complainant's name, address, telephone numbers, occupation, place of employment, and other identifying data along with the allegation, OSHA forms, and evidence offered in the allegation's proof. Respondent's name, address, telephone numbers, response to notification of the complaint, statements, and any other evidence or background material submitted as evidence. This material includes records of interviews and other data gathered by the investigator.

Authority for maintenance of the system:

a. the Occupational Safety and Health Act (29 U.S.C. -660(c));

b. the Surface Transportation Assistance Act (49 U.S.C. 31105);

c. the Asbestos Hazard Emergency Response Act (15 U.S.C. 2651);

d. the International Safe Container Act (46 U.S.C. 1506);

e. the Safe Drinking Water Act (42 U.S.C. 300j—9(i));

f. the Federal Water Pollution Control Act (33 U.S.C. 1367);

g. the Toxic Substances Control Act (15 U.S.C. 2622);

h. the Wendell H. Ford Aviation Investment and Reform Act for the 21st Century (49 U.S.C. 42121);

i. the Solid Waste Disposal Act (42 U.S.C. 6971);

j. the Clean Air Act (42 U.S.C. 7622);

k. the Comprehensive Environmental Response, Compensation and Liability Act of 1980 (42 U.S.C. 9610);

l. the Energy Reorganization Act of 1978 (42 U.S.C. 5851);

m. the Pipeline Safety Improvement Act of 2002 (49 U.S.C. 60129);

n. the Corporate and Criminal Fraud Accountability Act of 2002, Title VIII of the Sarbanes-Oxley Act of 2002 (18 U.S.C. 1514A);

o. the Federal Rail Safety Act (49 U.S.C. 20109);

p. the National Transit Security Systems Act (6 U.S.C. § 1142);

q. the Consumer Product Safety Improvement Act (15 U.S.C. 2087);

r. the Affordable Care Act (Pub. L. 111-148);

s. The Consumer Financial Protection Act of 2010 (12 U.S.C.A. § 5567);

t. The Seaman's Protection Act (46 U.S.C. 2114); and

u. The FDA Food Safety Modernization Act (Pub. L. 111-353).

Purpose(s):

The records are used to support a determination by OSHA on the merits of a complaint alleging violation of the employee protection provisions of one or more of the statutes listed under “Authority.” The records also are used as the basis of statistical reports on such activity by the system manager, national office administrators, regional administrators, investigators, and their supervisors in OSHA, which reports may be released to the public.

Routine uses of the records maintained in the system, including categories of users and the purposes of such uses:

In addition to those universal routine uses listed in the General Prefatory Statement to this document, a record from this system of records may be disclosed as follows:

a. With respect to the statutes listed under the “Authority” category, disclosure of the complaint, as well as the identity of the complainant, and any interviews, statements, or other information provided by the complainant, or information about the complainant given to OSHA, may be made to the respondent, so that the complaint can proceed to a resolution.

Note: Personal information about other employees that is contained in the complainant's file, such as statements taken by OSHA or information for use as comparative data, such as wages, bonuses, the substance of promotion recommendations, supervisory assessments of professional conduct and ability, or disciplinary actions, generally may be withheld from the respondent when it could violate those persons' privacy rights, cause intimidation or harassment to those persons, or impair future investigations by making it more difficult to collect similar information from others.

b. With respect to the statutes listed under the “Authority” category, disclosure of the respondent's responses to the complaint and any other evidence it submits may be shared with the complainant so that the complaint can proceed to a resolution.

c. With respect to the statutes listed under the “Authority” category, disclosure of appropriate, relevant, necessary, and compatible investigative records may be made to other Federal agencies responsible for investigating, prosecuting, enforcing, or implementing the underlying provisions of those statutes where OSHA deems such disclosure is compatible with the purpose for which the records were collected.

d. With respect to the statutes listed under the “Authority” category, disclosure of appropriate, relevant, necessary, and compatible investigative records may be made to another agency or instrumentality of any governmental jurisdiction within or under the control of the United States, for a civil or criminal law enforcement activity, if the activity is authorized by law, and if that agency or instrumentality has made a written request to OSHA, specifying the particular portion desired and the law enforcement activity for which the record is sought.

e. With respect to the statutes listed under the “Authority” category, disclosure may be made to the media, researchers, or other interested parties of statistical reports containing aggregated results of program activities and outcomes. Disclosure may be in response to requests made by telephone, email, fax, or letter, by a mutually convenient method. Statistical data may also be posted by the system manager on the OSHA Web page.

Disclosure to consumer reporting agencies:

None.

Policies and practices for storing, retrieving, accessing, retaining and disposing of records in the system:

Storage:

Files are stored electronically and/or on paper.

Retrievability:

By complainant's name, respondent's name, case identification number, or other identifying information.

Safeguards:

Access by authorized personnel only. Computer security safeguards are used for electronically stored data and locked locations for paper files.

Retention and disposal:

Destroy five years after case is closed.

System manager(s) and address:

Director of the Office of the Whistleblower Protection Program in the National Office, OSHA.

Notification procedure:

Individuals wishing to inquire whether this system of records contains information about them should contact the system manager at the appropriate system location.

Record access procedure:

Individuals wishing to gain access to non-exempt records should contact the system manager.

Contesting record procedure:

Individuals wishing to request amendment of any non-exempt records should contact the system manager at the system location listed above.

Record source categories:

Individual complainants who filed allegation(s) of retaliation by employer(s) against employee(s) or persons who have engaged in protected activities, also employers, employees and witnesses.

Systems exempted from certain provisions of the act:

In accordance with 5 U.S.C. 552a(k)(2), investigatory material in this system of records compiled for law enforcement purposes is exempt from subsections (c)(3); (d); (e)(1); (e)(4)(G), (H), and (I); and (f) of 5 U.S.C. 552a, provided however, that if any individual is denied any right, privilege, or benefit that he or she would otherwise be entitled to by Federal law, or for which he or she would otherwise be eligible, as a result of the maintenance of these records, such material shall be provided to the individual, except to the extent that the disclosure of such material would reveal the identity of a source who furnished information to the Government under an express promise that the identity of the source would be held in confidence, or, prior to January 1, 1975, under an implied promise that the identity of the source would be held in confidence.

VII. Publication of a Second Proposed Amended System of Records

DOL/OCFO-1, Attendance, Leave, and Payroll File, is proposed to be amended by revising the categories for “System location,” “Categories of individuals covered by the system,” “Categories of records in the system,” “Routine uses,” “Retention,” and “System manager” as well as minor changes to the other categories as set forth below. The new routine use will cover disclosure of records to the payroll provider for the Department, which is currently the U.S. Department of Agriculture's (USDA) National Finance Center (NFC), in order to effect all financial transactions on behalf of the Department related to employee pay. For the convenience of the reader the amended system is republished in full as follows:

DOL/OCFO-1

System name:

Attendance, Leave, and Payroll File.

Security classification:

None.

System location:

a. On electronic systems maintained by the Department and the Department's payroll provider, currently the USDA NFC headquartered in New Orleans, Louisiana, with primary computing facilities in Denver, Colorado, and at backup facilities for the payroll provider, currently located in St. Louis, Missouri.

b. Relevant data may also be stored on Department computers, or servers at the Department, including for use in distributing payroll and accounting information to the individual Department component offices in Washington DC.

c. Timekeepers.

d. Offices of the Chief Financial Officer.

e. Department of Labor human resources offices.

f. The Department of Labor National Office Leave Bank.

Categories of individuals covered by the system:

Department employees, current and former, and other individuals receiving compensation or benefits through the Department's payroll system, including interns, student volunteers, and beneficiaries.

Categories of records in the system:

Name, Social Security Number and employee number, grade, step, and salary, transit subsidies, organization (code), retirement or FICA data as applicable. Federal, State, and local tax deductions, as appropriate. Internal Revenue Service (IRS) tax lien data, commercial garnishment, child support data. Authorization forms for savings bonds and charity deductions; authorization forms for regular and optional Government life insurance deduction(s), health insurance deduction and plan or code; authorization forms for labor union dues deductions; other authorization forms. Cash award data; jury duty data; military leave data; pay differentials; allotments by type and amount; Thrift Savings Plan contributions; financial institution code(s) and employee account number(s); leave status and leave data of all types (including annual, compensatory, jury duty, maternity, military, retirement, disability, sick, transferred, political, donated, and without pay). Time and attendance records, including flexitime log sheets indicating number of regular, overtime, holiday, Sunday, and other hours worked, pay period number and ending date. Cost of living allowances, marital status, number of dependents, mailing address, “Notification of Personnel Action,” co-owner and/or beneficiary of bonds. Claims by the employee for overtime, for back wages and for waivers. Consumer credit reports of individuals indebted to the United States, correspondence to and from the debtor, information or records relating to the debtor's current whereabouts, assets, liabilities, income and expenses, debtor's personal financial statements and other information such as the nature, amount and history of a debt owed by an individual covered by this system, and other records and reports relating to the implementation of the Debt Collection Act of 1982, as amended by the Debt Collection Improvement Act of 1996, including any investigative reports or administrative review matters. The individual records listed herein are included only as pertinent or applicable to the individual employee or other individuals covered by this system.

Note: Sign-in and sign-out records are filed chronologically within Department offices and are not part of this system.

Authority for maintenance of the system:

31 U.S.C. 66(A).

Purpose(s):

In compliance with principles and standards prescribed by the Comptroller General, this system manages the Department's payroll compensation and benefits processing, accounting, and reporting. The system provides control procedures and systems to assure the complete and timely processing of input documents and output reports necessary to update and maintain the Department's Interactive Payroll System.

Routine uses of records maintained in the system, including categories of users and the purposes of such uses:

In addition to the universal routine uses listed in the General Prefatory Statement to this document, the Department may disclose relevant and necessary data as follows:

The Department may disclose records to its payroll provider, currently the USDA NFC, in order to effect all financial transactions on behalf of Department-related employee pay and compensation. Specifically, the Department's payroll provider may effect employee pay or deposit funds on behalf of Department employees, and/or it may withhold, collect or offset funds from employee salaries as required by law or as necessary to correct overpayment or amounts due. For example, the Department's payroll provider will routinely make the necessary disclosures to the Treasury Department for the issuance of payments as follows: To distribute pay according to the employee directions for savings bonds, allotments to financial institutions, and other authorized purposes. Transmittal of Thrift Savings Plan data to the Federal Retirement Thrift Investment Board (FRTIB) to effect contributions to the Thrift Savings Plan. Tax withholding data sent to the IRS and appropriate State and local taxing authorities, FICA deductions to the Social Security Administration, information concerning dues deductions to labor unions, withholdings for health insurance to insurance carriers and the Office of Personnel Management (OPM), retirement contributions to OPM, charity deductions to agents of charitable institutions, annual W-2 statements to taxing authorities and the individual, and transmittal of computer tape data to appropriate State and local governments for their benefits matching projects. Transmittal of employee's name, Social Security Number, salary history to State unemployment insurance agencies in order to facilitate the processing of State unemployment insurance claims for Department employees. In addition, the Department's payroll provider will use the data to perform related administrative activities such as to certify payroll vouchers chargeable to Department funds and to perform or participate in routine audit/oversight operations, including by the Office of Inspector General of the payroll provider, and/or Government Accountability Office, Office of Management and Budget, OPM, and the FRTIB.

In addition, where determined to be appropriate or necessary, the Department may authorize the Department's payroll provider to make disclosure of relevant records from this system, or the Department may disclose relevant records from this system, as follows:

a. Pursuant to § 13 of the Debt Collection Act of 1982, as amended by the Debt Collection Improvement Act of 1996, the name, Social Security Number, address(es), telephone number(s), and nature, amount and history of the debt of a current or former employee may be disclosed to private collection agencies for the purpose of collecting or compromising a debt existing in this system.

b. Department of Justice and Department of Treasury: Information may be forwarded to the Department of Treasury and/or the Department of Justice as prescribed in the Joint Federal Claims Collection Standards (31 CFR Parts 900 through 904). When debtors fail to make payment through normal collection routines, the files are analyzed to determine the feasibility of enforced collection by referring the cases to the Department of Justice for litigation.

c. Other Federal Agencies: Pursuant to §§ 5 and 10 of the Debt Collection Act of 1982, as amended by the Debt Collection Improvement Act of 1996, information relating to the implementation of the Debt Collection Act of 1982 may be disclosed to other Federal agencies to effect salary or administrative offsets, or for other purposes connected with the collection of debts owed to the United States.

d. IRS:

(1) Information contained in the system of records may be disclosed to the IRS to obtain taxpayer mailing addresses for the purpose of locating such taxpayer to collect, compromise, or write-off a Federal claim against the taxpayer.

(2) Records from this system of records may be disclosed to the IRS for the purpose of offsetting a Federal claim from any income tax refund that may be due to the debtor.

(3) Information may be disclosed to the IRS concerning the discharge of an indebtedness owed by an individual.

e. Records from this system of records may be disclosed to the Defense Manpower Data Center—Department of Defense and the United States Postal Service to conduct computer matching programs for the purpose of identifying and locating individuals who are receiving Federal salaries or benefit payments and are delinquent in their repayment of debts owed to the United States Government under certain programs administered by the Department in order to collect debts under the provisions of the Debt Collection Act of 1982 (Public Law 97-365) by voluntary repayment, or by salary or administrative offset procedures.

f. The names, Social Security Numbers, home addresses, dates of birth, dates of hire, quarterly earnings, employer identifying information, and State of hire of employees may be disclosed to the Office of Child Support Enforcement, Administration for Children and Families, Department of Health and Human Services in order to locate individuals for the purpose of: establishing paternity; establishing and modifying orders of child support; identifying sources of income; and for other child support enforcement actions as required by the Personal Responsibility and Work Opportunity Reconciliation Act (Welfare Reform law, Pub. L. 104-193).

g. A record from this system of records, reflecting the employee's transit subsidy, may be disclosed to other governmental agencies for purposes of comparing transit subsidy recipients and car pool applicants.

Disclosure to consumer reporting agencies:

The amount, status, and history of overdue debts as well as the name and address, Taxpayer Identification Number (SSN), and other information necessary to establish the identity of a debtor, the agency and program under which the claim arose, are disclosed pursuant to 5 U.S.C. 552a(b)(12) to consumer reporting agencies as defined by § 603(f) of the Fair Credit Reporting Act (15 U.S.C. 1681a(f)), in accordance with § 3(d)(4)(A)(ii) of the Federal Claims Collection Act of 1966, as amended (31 U.S.C. 3711(f)) for the purpose of encouraging the repayment of an overdue debt.

Policies and practices for storing, retrieving, accessing, retaining, and disposing of records in the system:

Storage:

Files are stored electronically and/or on paper.

Retrievability:

By name, Social Security Number, or other identifying information in the system.

Safeguards:

Access by authorized personnel only. Computer security safeguards are used for electronically stored data and locked locations for paper files.

Retention and disposal:

Records are disposed of in accordance with General Records Schedule No. 2 issued by the National Archives and Records Administration.

System manager(s) and address:

Director, Division of Payroll System Support, Office of Financial Systems, Office of the Chief Financial Officer, Department of Labor, 200 Constitution Ave. NW., Washington, DC 20210, and the Director, Department of Labor National Office Leave Bank, 200 Constitution Avenue NW., Washington, DC 20210.

Notification procedure:

Inquiries should be mailed or presented to the system manager noted at the addresses listed above.

Record access procedures:

A request for access shall be addressed to the system manager at the address listed above. Individuals must furnish the following information for their records to be located and identified:

a. Name and address.

b. Social Security Number.

Contesting record procedures:

A petition for amendment shall be addressed to the System Manager.

Record source categories:

Employees (or others receiving compensation or benefits through the payroll system), supervisors, timekeepers, official personnel records, the IRS, consumer credit reports, personal financial statements, correspondence with the debtor, records relating to hearings on the debt, and from other Department systems of records.

Systems exempted from certain provisions of the Act:

None.

VIII. Publication of a Third Proposed Amended System of Records

DOL/GOVT-1, Office of Workers' Compensation Programs, Federal Employees' Compensation Act File, is proposed to be amended by adding an additional routine use to the category for “Routine uses.” The new routine use will permit the Department to disclose information to the National Institutes for Occupational Safety and Health (NIOSH) for the purpose of performing statistical analysis of injury and illness patterns. These statistical analyses will assist the Department's Office of Workers' Compensation Programs (OWCP) and the Occupational Safety and Health Administration in their respective missions. In addition, style and grammatical changes have been made to categories in this system to clarify the text. For the convenience of the reader the amended system is republished in full as follows:

DOL/GOVT-1

System name:

Office of Workers' Compensation Programs, Federal Employees' Compensation Act File.

Security classification:

Most files and data are unclassified. Files and data in certain cases have Top Secret classification, but the rules concerning their maintenance and disclosure are determined by the agency that has given the information the security classification of Top Secret.

System location:

The central database for DOL/GOVT-1 is located at the DOL National office and the offices of OWCP's contractor. Paper claim files are located at the various OWCP district offices; claim files of employees of the Central Intelligence Agency are located at that agency. Records from this system of records may be temporarily located in the offices of health care providers and other individuals or entities with whom the Department contracts for services such as examination or evaluation of claimants. Copies of claim forms and other documents arising out of a job-related injury that resulted in the filing of a claim under the Federal Employees' Compensation Act (FECA) may also be maintained by the employing agency (and where the forms were transmitted to OWCP electronically, the original forms are maintained by the employing agency). In addition, records relating to third-party claims of FECA beneficiaries are maintained in the Division of Federal Employees' and Energy Workers' Compensation, Office of the Solicitor, United States Department of Labor, 200 Constitution Avenue NW., Washington, DC 20210, in the offices of the Regional and Associate Regional Solicitors, and in various offices of the United States Postal Service, which undertakes various duties relating to third party claims pursuant to an agreement with OWCP.

Categories of individuals covered by the system:

Individuals and/or their survivors who file claims seeking benefits under FECA by reason of injuries sustained while in the performance of duty. FECA applies to all civilian Federal employees, including various classes of persons who provide or have provided personal service to the Government of the United States, and to other persons as defined by law such as State or local law enforcement officers, and their survivors, who were injured or killed while assisting in the enforcement of Federal law. In addition, FECA covers employees of the Civil Air Patrol, Peace Corps Volunteers, Job Corps students, Volunteers in Service to America, members of the National Teacher Corps, certain student employees, members of the Reserve Officers Training Corps, certain former prisoners of war, and employees of particular commissions and other agencies.

Categories of records in the system:

This system may contain the following kinds of records: Reports of injury by the employee and/or employing agency; claim forms filed by or on behalf of injured Federal employees or their survivors seeking benefits under FECA; forms authorizing medical care and treatment; other medical records and reports; bills and other payment records; compensation payment records; formal orders for or against the payment of benefits; transcripts of hearings conducted; and any other medical, employment, or personal information submitted or gathered in connection with the claim. The system may also contain information relating to dates of birth, marriage, divorce, and death; notes of telephone conversations conducted in connection with the claim; information relating to vocational and/or medical rehabilitation plans and progress reports; records relating to court proceedings, insurance, banking and employment; articles from newspapers and other publications; information relating to other benefits (financial and otherwise) the claimant may be entitled to; and information received from various investigative agencies concerning possible violations of Federal civil or criminal law.

The system may also contain consumer credit reports on individuals indebted to the United States, information relating to the debtor's assets, liabilities, income and expenses, personal financial statements, correspondence to and from the debtor, information relating to the location of the debtor, and other records and reports relating to the implementation of the Federal Claims Collection Act (as amended), including investigative reports or administrative review matters. Individual records listed here are included in a claim file only insofar as they may be pertinent or applicable to the employee or beneficiary.

Authority for maintenance of the system:

5 U.S.C. 8101 et seq., 20 CFR 1.1 et seq.

Purpose(s):

FECA establishes the system for processing and adjudicating claims that Federal employees and other covered individuals file with the Department's OWCP seeking monetary, medical and similar benefits for injuries or deaths sustained while in the performance of duty. The records maintained in this system are created as a result of and are necessary to this process. The records provide information and verification about the individual's employment-related injury and the resulting disabilities and/or impairments, if any, on which decisions awarding or denying benefits provided under the FECA must be based.

Routine uses of records maintained in the system, including categories of users and the purposes of such uses:

In addition to those Department-wide routine uses set forth in the General Prefatory Statement to this document, disclosure of information from this system of records may be made to the following individuals and entities for the purposes noted when the purpose of the disclosure is both relevant and necessary and is compatible with the purpose for which the information was collected:

a. To any attorney or other representative of a FECA beneficiary for the purpose of assisting in a claim or litigation against a third party or parties potentially liable to pay damages as a result of the FECA beneficiary's FECA-covered injury and for the purpose of administering the provisions of §§ 8131-8132 of FECA. Any such third party, or a representative acting on that third party's behalf, may be provided information or documents concerning the existence of a record and the amount and nature of compensation paid to or on behalf of the FECA beneficiary for the purpose of assisting in the resolution of the claim or litigation against that party or administering the provisions of §§ 8131-8132 of FECA.

b. To Federal agencies that employed the claimant at the time of the occurrence or recurrence of the injury or occupational illness in order to verify billing, to assist in administering FECA, to answer questions about the status of the claim, to consider rehire, retention or other actions the agency may be required to take with regard to the claim or to permit the agency to evaluate its safety and health program. Disclosure to Federal agencies, including the Department of Justice, may be made where OWCP determines that such disclosure is relevant and necessary for the purpose of providing assistance in regard to asserting a defense based upon FECA's exclusive remedy provision to an administrative claim or to litigation filed under the Federal Tort Claims Act.

c. To other Federal agencies, other Government or private entities and to private-sector employers as part of rehabilitation and other return-to-work programs and services available through OWCP, where the entity is considering hiring the claimant or where otherwise necessary as part of that return-to-work effort.

d. To Federal, State or private rehabilitation agencies and individuals to whom the claimant has been referred for evaluation of rehabilitation and possible reemployment.

e. To physicians, pharmacies, and other health care providers for their use in treating the claimant, in conducting an examination or preparing an evaluation on behalf of OWCP and for other purposes relating to the medical management of the claim, including evaluation of and payment for charges for medical and related services and supplies.

f. To medical insurance or health and welfare plans (or their designees) that cover the claimant in instances where OWCP has paid for treatment of a medical condition that is not compensable under FECA, or where a medical insurance plan or health and welfare plan has paid for treatment of a medical condition that may be compensable under FECA, for the purpose of resolving the appropriate source of payment in such circumstances.

g. To labor unions and other voluntary employee associations from whom the claimant has requested assistance for the purpose of providing such assistance to the claimant.

h. To a Federal, State or local agency for the purpose of obtaining information relevant to a determination concerning initial or continuing eligibility for FECA benefits, and for a determination concerning whether benefits have been or are being properly paid, including whether dual benefits that are prohibited under any applicable Federal or State statute are being paid; and for the purpose of utilizing salary offset and debt collection procedures, including those actions required by the Debt Collection Act of 1982, to collect debts arising as a result of overpayments of FECA compensation and debts otherwise related to the payment of FECA benefits.

i. To the Internal Revenue Service (IRS) for the purpose of obtaining taxpayer mailing addresses for the purposes of locating a taxpayer to collect, compromise, or write-off a Federal claim against such taxpayer; and informing the IRS of the discharge of a debt owed by an individual. Records from this system of records may be disclosed to the IRS for the purpose of offsetting a Federal claim from any income tax refund that may be due to the debtor.

j. To OSHA for the purpose of using injury reports filed by Federal agencies pursuant to FECA to fulfill agency injury reporting requirements. Information in this system of records may be disclosed to OSHA by employing agencies as part of any Management Information System established under OSHA regulations to monitor health and safety.

k. To contractors providing services to the Department or any other Federal agency or any other individual or entity specified in any of these routine uses or in the Department's General Prefatory Statement who require the data to perform the services that they have contracted to perform, provided that those services are consistent with the routine use for which the information was disclosed to the contracting entity. Should such a disclosure be made to the contractor, the individual or entity making such disclosure shall insure that the contractor complies fully with all Privacy Act provisions, including those prohibiting unlawful disclosure of such information.

l. To the Defense Manpower Data Center—Department of Defense and the United States Postal Service to conduct computer matching programs for the purpose of identifying and locating individuals who are receiving Federal salaries or benefit payments and are delinquent in their repayment of debts owed to the United States under programs administered by the Department in order to collect the debts under the provisions of the Debt Collection Act of 1982 (Pub. L. 97-365) by voluntary repayment, or by salary or administrative offset procedures.

m. To a credit bureau for the purpose of obtaining consumer credit reports identifying the assets, liabilities, expenses, and income of a debtor in order to ascertain the debtor's ability to repay a debt incurred under FECA, to collect the debt, or to establish a payment schedule.

n. To consumer reporting agencies as defined by § 603(f) of the Fair Credit Reporting Act (15 U.S.C. 1681a(f)) or in accordance with § 3(d)(4)(A)(ii) of the Federal Claims Collection Act of 1966 as amended (31 U.S.C. 3711(f)) for the purpose of encouraging the repayment of an overdue debt, the amount, status and history of overdue debts, the name and address, taxpayer identification (SSN), and other information necessary to establish the identity of a debtor, the agency and program under which the claim arose, may be disclosed pursuant to 5 U.S.C. 552a(b)(12).

o. To a Member of Congress or to a Congressional staff member in response to an inquiry made by an individual seeking assistance who is the subject of the record being disclosed for the purpose of providing such assistance.

p. To individuals, and their attorneys and other representatives, and Government agencies, seeking to enforce a legal obligation on behalf of such individual or agency, to pay alimony and/or child support for the purpose of enforcing such an obligation, pursuant to an order of a State or local court of competent jurisdiction, including Indian tribal courts, within any State, territory or possession of the United States, or the District of Columbia or to an order of a State agency authorized to issue income withholding notices pursuant to State or local law or pursuant to the requirements of § 666(b) of title 42, U.S.C., or for the purpose of denying the existence of funds subject to such legal obligation.

q. To the National Institute for Occupational Safety and Health (NIOSH), for the purpose of performing statistical analyses of injury and illness patterns to identify patterns and locations of high incidence, help devise safety and return-to-work interventions, and guide worker safety and health research. The statistical analyses performed by NIOSH will assist OWCP and OSHA in their efforts to reduce the occurrence of employment injuries, assist employees in achieving a smooth transition and return to work following employment injuries, and improve Federal employee safety and health.

Note: Disclosure of information contained in this system of records to the subject of the record, a person who is duly authorized to act on his or her behalf, or to others to whom disclosure is authorized by these routine uses, may be made over the telephone or by electronic means. Disclosure over the telephone or by electronic means will only be done where the requestor provides appropriate identifying information. Telephonic or electronic disclosure of information is essential to permit efficient administration and adjudication of claims under FECA. Pursuant to 5 U.S.C. 552a(b)(1), information from this system of records may be disclosed to members and staff of the Employees' Compensation Appeals Board, the Office of Administrative Law Judges, the Office of the Solicitor and other components of the Department that have a need for the record in the performance of their duties.

Disclosure to consumer reporting agencies:

The amount, status and history of overdue debts, the name and address, taxpayer identification (SSN), and other information necessary to establish the identity of a debtor, the agency and program under which the claim arose, may be disclosed pursuant to 5 U.S.C. 552a(b)(12) to consumer reporting agencies as defined by § 603(f) of the Fair Credit Reporting Act (15 U.S.C. 1681a(f)) or in accordance with § 3(d)(4)(A)(ii) of the Federal Claims Collection Act of 1966 as amended (31 U.S.C. 3711(f)) for the purpose of encouraging the repayment of an overdue debt.

Policies and practices for storing, retrieving, accessing, retaining and disposing of records in the system:

Storage:

Files are stored electronically and/or on paper.

Retrievability:

Files and automated data are retrieved after identification by coded file number and/or Social Security Number which is cross-referenced to employee by name, employing establishment, and date and nature of injury. Since the electronic case management files were created in 1975, these electronic files are located in District Offices that have jurisdiction over the claim, and (as noted above under “System location”), a complete central data base is maintained at the location of the contractor. Prior to 1975, a paper index file was maintained; these records were transferred to microfiche and are located in the national office.

Safeguards:

Access by authorized personnel only. Computer security safeguards are used for electronically stored data and locked locations for paper files. Only personnel having an appropriate security clearance may handle or process security files.

Retention and disposal:

All case files and automated data pertaining to a claim are destroyed 15 years after the case file has become inactive. Case files that have been scanned to create electronic copies are destroyed after the copies are verified. Electronic data is retained in its most current form only, and as information is updated, outdated information is deleted. Some related financial records are retained only in electronic form, and destroyed six years and three months after creation or receipt.

System manager(s) and address:

Director for Federal Employees' Compensation, Office of Workers' Compensation Programs, 200 Constitution Avenue NW., Room S-3229, Washington, DC 20210.

Notification procedure:

An individual wishing to inquire whether this system of records contains information about him/her may write or telephone the OWCP district office that services the state in which the individual resided or worked at the time he or she believes a claim was filed. In order for the record to be located, the individual must provide his or her full name, OWCP claim number (if known), date of injury (if known), and date of birth.

Record access procedures:

Any individual seeking access to non-exempt information about a case in which he/she is a party in interest may write or telephone the OWCP district office where the case is located, or the systems manager, and arrangements will be made to provide review of the file. Access to copies of documents maintained by the employing agency may be secured by contacting that agency's designated disclosure officials.

Contesting record procedures:

Specific materials in this system have been exempted from certain Privacy Act provisions regarding the amendment of records. The section of this notice entitled “Systems exempted from certain provisions of the Act,” indicates the kind of materials exempted, and the reasons for exempting them. Any individual requesting amendment of non-exempt records should contact the appropriate OWCP district office, or the system manager. Individuals requesting amendment of records must comply with the Department's Privacy Act regulations at 29 CFR 71.1 and 71.9, and with the regulations found at 20 CFR 10.12 (1999).

Record source categories:

Injured employees; beneficiaries; employing Federal agencies; other Federal agencies; physicians; hospitals; clinics; suppliers of health care products and services and their agents and representatives; educational institutions; attorneys; Members of Congress; OWCP field investigations; State governments; consumer credit reports; agency investigative reports; correspondence with the debtor including personal financial statements; records relating to hearings on the debt; and other Department systems of records.

Systems exempted from certain provisions of the Act:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

IX. Publication of a Fourth Proposed Amended System of Records

DOL/ETA-7, Employer Application and Attestation File for Permanent and Temporary Alien Workers, is proposed to be amended by revising the “Categories of individuals covered by the system” to more accurately describe that the only employers who are covered by this system of records are household employers of permanent or temporary alien workers. In addition, minor changes in the categories for “System location,” “Categories of individuals covered by the system,” “Routine uses,” “Storage,” “Retrievability,” “System manager and address” and “Record source” are proposed for amendment. For the convenience of the reader the amended system is republished in full as follows:

DOL/ETA-7

System name:

Employer Application and Attestation File for Permanent and Temporary Alien Workers.

Security classification:

None.

System location:

Office of Foreign Labor Certifications, Employment and Training Administration (ETA), Frances Perkins Building, 200 Constitution Avenue NW., Washington, DC 20210, ETA National Processing Centers, and contractor offices.

Categories of individuals covered by the system:

Employers applying for labor certifications on behalf of alien workers for job opportunities, on a permanent or temporary basis, in private households. The alien may be known or unknown.

Categories of records in the system:

Employers' names, addresses, type and size of businesses, production data, number of workers needed in certain cases, offer of employment terms to known or unknown aliens, and background and qualifications of certain aliens, along with resumes and applications of U.S. workers.

Authority for maintenance of the system:

Immigration and Nationality Act, as amended, 8 U.S.C. 1101(a)(15)(H)(i), and (ii), 1184(c), 1182(m) and (n), 1182(a)(5)(a), 1188, and 1288. Section 122 of Pub. L. 101-649. 8 CFR 214.2(h).

Purpose(s):

To maintain a record of applicants and actions taken by ETA on requests to employ alien workers.

Routine uses of records maintained in the system, including categories of users and the purposes of such uses:

The universal routine uses listed in the General Prefatory Statement to this document apply to this system of records. In addition, case files developed in processing labor certification applications, labor condition applications, or labor attestations, are released: to the employers who filed such applications, their representatives, and to named alien beneficiaries or their representatives, if requested, to review ETA actions in connection with appeals of denials before the Office of Administrative Law Judges (OALJ) and Federal Courts; to participating agencies such as the DOL Office of Inspector General, DOL Wage and Hour Division, Department of Homeland Security, and Department of State in connection with administering and enforcing related immigration laws and regulations; and to the OALJ and Federal Courts in connection with appeals of denials of labor certification requests, labor condition applications, and labor attestations.

Disclosure to consumer reporting agencies:

None.

Policies and practices for storing, retrieving, accessing, retaining, and disposing of records in the system:

Storage:

Manual and/or computerized files are stored in the national office, and each of the ETA National Processing Centers.

Retrievability:

Records are retrieved by employer name, case number, occupational type, alien name, attorney/agent name, attorney/agent firm name, application year, re-file information, and area of intended employment.

Safeguards:

Access to records is provided only to authorized personnel. The computerized data has a double security access: (1) Initial password entry to the local area network; and (2) restricted access to alien certification data is given only to those employees with a need to know the data for performance of their official duties.

Retention and disposal:

A case file is retained in the office for two years, then transferred to a records center for destruction after three additional years.

System manager(s) and address:

Administrator, Office of Foreign Labor Certifications, U.S. Office of Workforce Security, ETA, 200 Constitution Avenue NW., Washington, DC 20210.

Notification procedure:

Inquiries concerning this system can be directed to the system manager listed above.

Record access procedures:

Individuals can request access by mailing a request to the appropriate System Manager listed above.

Contesting record procedures:

Individuals wanting to contest or amend information maintained in this system should direct their written request to the appropriate system manager listed above. The request to amend should state clearly and concisely what information is being contested, the reasons for contesting, and the proposed amendment to the information sought.

Record source categories:

Information comes from labor certification applications, labor condition applications, and labor attestations completed by employers. Certain information is furnished by named alien beneficiaries of labor certification applications, State workforce agencies, and the resumes and applications of U.S. workers.

Systems exempted from certain provisions of the Act:

None.

X. Publication of a Fifth Proposed Amended System of Records

DOL/OSEC-1, Supervisor's/Team Leader's Records of Employees, is proposed to be amended by adding an additional routine use to the category for “Routine uses,” which will permit information to be provided to professional licensing organizations such as those for attorneys, accountants, and physicians. In addition, minor changes are proposed to the categories for “System location,” “Categories of records in the system,” and for “Record sources.” For the convenience of the reader, the amended system is republished in full as follows:

DOL/OSEC-1

System name:

Supervisor's/Team Leader's Records of Employees.

Security classification:

None.

System location:

Records of membership in professional licensing organizations such as those for attorneys, accountants and physicians will be maintained in the supervisor's offices and in the national and regional Human Resources Offices. Emergency addressee information may be kept at the residence of or upon the supervisor's person when appropriate.

Note: Requests for a reasonable accommodation are made to supervisors. The Civil Rights Center may temporarily maintain a copy of such requests and of the medical documents submitted by the employee when the Public Health Service (PHS) physician completes his or her review of the request.

Categories of individuals covered by the system:

Current employees, employees who have retired or left the office within the last 12 months, and employees who have been separated from the office or Department for more than 12 months for whom the former supervisor/team leader has retained records.

Categories of records in the system:

Records related to individuals while employed by the Department and which contain such information as: Record of employee/supervisor discussions, supervisor(s)/team leader(s) observations, supervisory copies of officially recommended actions, reports of Federal Telecommunications System telephone usage containing call detail information, awards, disciplinary actions, emergency addressee information, flexiplace records, reports of on-the-job accidents, injuries, or illnesses, correspondence from physicians or other health care providers, training requests, requests for regular leave, advanced leave, family and medical leave, and records of membership in professional licensing organizations such as those for attorneys, accountants and physicians. The system also contains records relating to requests for reasonable accommodation and/or leave, including medical documents submitted by employees, as well as reports and records by the PHS physicians who have reviewed the accommodation requests.

The system also contains labor relations materials such as performance improvement plans, reprimands, suspensions of less than 14 days, leave restrictions and related materials.

Authority for maintenance of the system:

5 U.S.C. 301, 1302, 2951, 4118, Reorganization Plan 6 of 1950, and the Civil Service Reform Act of 1978. The Rehabilitation Act and the Americans with Disabilities Act.

Purpose(s):

To maintain a file for the use of supervisor(s)/team leader(s) in performing their responsibilities and to support specific personnel actions regarding employees.

Routine uses of records maintained in the system, including categories of users and the purpose of such uses:

In addition to the universal routine uses listed in the General Prefatory Statement to this document, the following routine uses apply to this system of records:

a. Selected information may be disclosed at appropriate stages of investigation and adjudication to the Department's Civil Rights Center, Merit Systems Protection Board, Office of Special Counsel, Federal Labor Relations Authority, Equal Employment Opportunity Commission, arbitrators, or the courts for the purposes of satisfying requirements related to investigation of or litigation related to alleged discrimination, prohibited personnel practices, and unfair labor practices.

b. Records relating to a request for a reasonable accommodation may be referred to PHS or other physicians for their review and evaluation of the request.

c. Data may be disclosed to medical providers for the purpose of evaluating sick leave absences based upon illness or injury.

d. Information may be disclosed to professional licensing organizations such as those for attorneys, accountants, and physicians for the purpose of confirming the membership status of the employee.

Disclosure to consumer reporting agencies:

None.

Policies for storing, retrieving, accessing, retaining, and disposing of records in the system:

Storage:

Records are maintained in electronic and/or paper files.

Retrievability:

By name of employee or other identifying information.

Safeguards:

Access by authorized personnel only. Computer security safeguards are used for electronically stored data, and locked locations for paper files.

Retention and disposal:

Records are maintained on current employees. Records on former employees are kept for one year, and then may be destroyed.

System manager(s) and address:

All supervisor(s)/team leader(s) having responsibility for performance management plans, performance standards, or ratings.

Notification procedure:

An individual may inquire whether the system contains a record pertaining to her/him by contacting the supervisor/team leader who completes his/her performance standards and rating.

Record access procedures:

A request for access must be addressed to the appropriate system manager listed above. Individuals must furnish their name in order for their records to be located and identified.

Contesting record procedures:

A petition for amendments shall be addressed to the appropriate system manager.

Record source categories:

Information is supplied by the individual, supervisor(s)/team leader(s), agency officials, medical providers, co-workers, and professional licensing organizations such as those for attorneys, accountants and physicians.

Systems exempted from certain provisions of the Act:

None.

[FR Doc. 2012-345 Filed 1-10-12; 8:45 am]

BILLING CODE 4510-23-P